SECURITIES AND EXCHANGE COMMISSION

[Release Nos. IA-2360; File No. S7-30-04]

RIN 3235-AJ25

Registration Under the Advisers Act of Certain Hedge Fund Advisers

AGENCY: Securities and Exchange Commission.

ACTION: Notice of OMB approval of collections of information.

FOR FURTHER INFORMATION CONTACT: Vivien Liu, Senior Counsel, Office of Investment Adviser Regulation, Division of Investment Management, (202) 551-6787, at the Securities and Exchange Commission, 450 Fifth Street, NW, Washington, DC 20549-0506.

SUPPLEMENTARY INFORMATION: The Office of Management and Budget has approved the changes to collection of information requirements described in Registration Under the Advisers Act of Certain Hedge Fund Advisers.¹ These collections are titled “Form ADV” (OMB Control No. 3235-0049); “Form ADV-NR” (OMB Control No. 3235-0240); “Form ADV-W and Rule 203-2” (OMB Control No. 3235-0313); “Rule 203-3 and Form ADV-H” (OMB Control No. 3235-0538); “Rule 204-2” (OMB Control No. 3235-0278); “Rule 204-3” (OMB Control No. 3235-0047); “Rule 204A-1” (OMB Control No. 3235-0596); “Rule 206(4)-2” (OMB Control No. 3235-0241); “Rule 206(4)-3” (OMB Control No. 3235-0242); “Rule 206(4)-4” (OMB Control No. 3235-0345); “Rule 206(4)-6” (OMB Control No. 3235-0571); and “Rule 206(4)-7” (OMB Control No. 3235-0585).

¹ Investment Advisers Act Rel. No. 2333 (Dec. 2, 2004) [69 FR 72054 (Dec. 10, 2004)].

Dated: February 22, 2005.
Margaret H. McFarland,
Deputy Secretary.

[FR Doc. 05-3725 Filed 2-25-05; 8:45 am]

BILLING CODE 8010-01-P